DEPARTMENT OF VETERANS AFFAIRS

Geriatrics and Gerontology Advisory Committee; Notice of Meeting

The Department of Veterans Affairs gives notice under Public Law 92-463 (Federal Advisory Committee Act) that a meeting of the Geriatrics and Gerontology Advisory committee will be held at VA Center Office, 810 Vermont Avenue, NW., Washington, DC on September 19-20, 2006. The session on September 19 will convene at 8:30 a.m. and conclude at 5 p.m. in Room 430 and on September 20, the session will convene at 8 a.m. and conclude at noon in Room 730. This meeting is open to the public.

The purpose of the Committee is to provide advice to the Secretary of Veterans Affairs and the Under Secretary of Health on all matters pertaining to geriatrics and gerontology by assessing the capability of VA health care facilities to meet the medical, psychological, and function needs of older veterans and by evaluating VA facilities designated as Geriatric Research Education, and Clinical Centers (GRECCs).

The meeting will feature presentation topics that include VHA Poly Trauma Centers, the Office of Academic Affiliations, My Health-e-Vet, the 2005 White House Conference on Aging, the Employee Education System, and perfomranc oversight of the VA Geriatric Research, Education, and clinical Centers.

No time will be allocated at this meeting for receiving oral presentation from the public. Interested parties can provide written comments for review by the Committee 10 days in advance of the meeting to Mrs. Marcia Holt-Delaney, Office of Geriatrics and Extended Care (114), Department of Veterans Affairs, 810 Vermont Avenue, NW., Washington, DC 20420. Individuals who wish to attend the meeting should contact Mrs. Holt-Delaney, Program Analyst, at (202) 273-8540, at least seven days in advance of the meeting.

Dated: July 20, 2006.
By direction of the Secretary.
E. Philip Riggin,
Committee Management Officer.

[FR Doc. 06-6588 Filed 7-31-06; 8:45 am]

BILLING CODE 8320-01-M